FEDERAL TRADE COMMISSION

Public Workshop: The Information Marketplace: Merging and Exchanging Consumer Data

AGENCY: Federal Trade Commission.

ACTION: Notice announcing public workshop.

SUMMARY: The Federal Trade Commission (“Commission”) has set Tuesday, March 13, 2001 as the date for a public workshop exploring how businesses merge and exchange detailed consumer information and how such information is used commercially.

DATE & SCHEDULE: The workshop will be held from 9:00 a.m. to 5:00 p.m. on March 13, 2001 in the Commission Meeting Room (432), 600 Pennsylvania Avenue, NW., Washington, DC 20580. Public sign-in will begin at 8:00 a.m. The event is open to the public and no advance registration is required. There is no fee for attendance. In addition, the workshop will be audiocast live over the Internet. A detailed agenda and additional information on the workshop will be posted on the Commission's web site, www.ftc.gov. in advance of the workshop.

FOR FURTHER INFORMATION: For questions about the workshop, contact: Martha Landesberg, telephone 202-326-2825, e-mail mlandesberg@ftc.gov, or Allison Brown, telephone 202-326-3079, aibrown@ftc.gov. Both of the above staff can be reached by mail at: Division of Financial Practices, Federal Trade Commission, 600 Pennsylvania Avenue, NW., Washington, DC 20580.

SUPPLEMENTARY INFORMATION:

Background and Workshop Goals

In reports to Congress in June and July 2000, the Commission examined the practices of third-party Internet advertising networks engaged in “online profiling” activities ¹ These entities collect information about consumers as they surf across web sites to create detailed profiles which include information about consumers' surfing habits, and other personal and non-personal information, for the purpose of sending targeted online advertising messages to individual consumers.

¹ See Online Profiling: A Report to Congress (June 2000) (issued by a vote of 5-0, with Commissioner Swindle concurring in part and dissenting in part), available at http://www.ftc.gov/os/2000/06/onlineprofilingreportjune2000.pdf; Online Profiling: A Report to Congress, Part 2 (July 2000) (issued by a vote of 4-1, with Commissioner Swindle dissenting and Commissioner Leary concurring in part and dissenting in part), available at http.//www.ftc.gov/os/2000/07/onlineprofiling.htm.

Now, the Commission proposes to explore how detailed consumer profiles—i.e., compilations of identifying information, preference information, purchasing habits, and other information relating to a particular consumer—are created and used by entities other than third-party Internet advertising networks. In particular, the Commission plans to consider whether and how consumer profiles are created through the merger and exchange of data between companies, regardless of whether the data at issue is collected or used online or offline, and how such profiles are used commercially. The goal of the upcoming workshop is to educate the Commission and the public about current business practices and emerging technologies.

Questions To Be Addressed

Among the questions that may be addressed at the workshop are the following:

• What kinds of consumer information do businesses purchase, sell or exchange to create profiles and what are the sources of that information?

• Are there new technologies or technical standards that may increase the sharing of detailed consumer information and do they include or facilitate privacy protections?

• How does the merger and exchange of detailed consumer data between companies affect consumers?

• What types of notice have businesses provided to consumers regarding various kinds of data merger and exchange activities?

• What business purposes are served by the creation of consumer profiles through the merger of a company's internal information about consumers with information obtained from third-parties?

By direction of the Commission.
Donald S. Clark,
Secretary.

[FR Doc. 01-3194 Filed 2-6-01; 8:45 am]

BILLING CODE 6750-01-M